DEPARTMENT OF TRANSPORTATION

National Highway Traffic Safety Administration

[Docket No. NHTSA-2023-0061]

Request for Comment: NHTSA's Nondiscrimination Compliance Program; Extension of Written Submission Deadline

AGENCY: National Highway Traffic Safety Administration (NHTSA), Department of Transportation (DOT).

ACTION: Extension of deadline for written submissions in response to NHTSA's Request for Comment on NHTSA's Nondiscrimination Compliance Program.

SUMMARY: NHTSA has received requests to extend the period during which commenters may submit written comments in response to the Request for Comment: NHTSA's Nondiscrimination Compliance Program published on November 16, 2023. The original written submission deadline was January 16, 2024. NHTSA is extending the deadline by 30 days to February 15, 2024.

DATES: The written submission deadline related to the Request for Comment published on November 16, 2023, at 88 FR 78811, is extended to February 15, 2024.

ADDRESSES: You may submit comments to the docket number identified in the heading of this document by any of the following methods:

• Federal eRulemaking Portal: Go to https://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, between 9 a.m. and 5 p.m. ET, Monday through Friday, except Federal holidays.

• Fax: 202-493-2251.

Instructions: All submissions must include the agency name and Docket No. NHTSA-2023-0061. All comments received will be posted without change, including any personal information provided. For access to the docket to read background documents or comments received, go to https://www.regulations.gov and search for Docket No. NHTSA-2023-0061.

Privacy Act: Anyone is able to search the electronic form for all comments received into USDOT's dockets by entering the name of the individual submitting the comment (or signing the comment, if submitted on behalf of an organization, association, business, or other entity). You may review the U.S. Department of Transportation's (USDOT) complete Privacy Act Statement in the Federal Register published on April 11, 2000 (65 FR 19477) or visit https://www.transportation.gov/privacy.

Docket: For access to the docket to read background documents or comments received, go to https://www.regulations.gov or the street address listed above. Follow the online instructions for accessing the dockets via internet.

FOR FURTHER INFORMATION CONTACT: For more information, contact Heather Moss, Division Chief, Title VI Compliance, Office of Civil Rights, National Highway Traffic Safety Administration, Telephone number: (202) 366-0972. You may also contact NHTSA's Office of Civil Rights at NHTSACivilRights@dot.gov.

SUPPLEMENTARY INFORMATION: On November 16, 2023, NHTSA published a Request for Comment regarding NHTSA's Nondiscrimination Compliance Program. The original written submission deadline was January 16, 2024. NHTSA is extending the deadline by 30 days to February 15, 2024.

Through this request for comment (RFC), NHTSA seeks input to inform the development of Nondiscrimination Compliance Guidelines for NHTSA Financial Assistance Recipients (Nondiscrimination Guidelines). NHTSA's Nondiscrimination Guidelines will provide guidance for recipients on how to comply with their Federal civil rights obligations. NHTSA published this RFC to engage a broad cross-section of stakeholders and the public. After considering and incorporating comments and information received from this solicitation, NHTSA intends to publish draft Nondiscrimination Guidelines for comment before publishing final guidance.

With this 30-day extension, interested parties have until February 15, 2024, to submit written comments. Although submissions are strictly voluntary, all interested parties are encouraged to respond.

Comments may be submitted and viewed at Docket No. NHTSA-2023-0061 at https://www.regulations.gov.

Issued in Washington, DC, on December 8, 2023.
Regina E. Morgan,
Director, NHTSA Office of Civil Rights.

[FR Doc. 2023-27391 Filed 12-13-23; 8:45 am]

BILLING CODE 4910-59-P